SURFACE TRANSPORTATION BOARD

[Docket No. FD 36486 (Sub-No. 2)]

Grainbelt Corporation—Trackage Rights Exemption—BNSF Railway Company

Grainbelt Corporation (GNBC), a Class III rail carrier, has filed a verified notice of exemption under 49 CFR 1180.2(d)(7) ¹ to extend the term of the previously amended, local trackage rights on trackage owned by BNSF Railway Company (BNSF) between approximately milepost 668.73 in Long, Okla., and approximately milepost 723.30 in Quanah, Tex. (the Line), allowing GNBC to (1) use the Line to access the Plains Cotton Cooperative Association (PCCA) facility near BNSF Chickasha Subdivision milepost 688.6 at Altus, Okla., and (2) operate additional trains on the Line to accommodate the movement of trains transporting BNSF customers' railcars (loaded or empty) located along the Line, to unit train facilities on the Line (collectively, the PCCA Trackage Rights).² GNBC and BNSF have entered into an amendment to extend the PCCA Trackage Rights ³ until March 28, 2023.⁴

¹ The pleadings in this docket were originally filed in Docket No. FD 36580, but given that the trackage rights at issue are the same as those in Docket No. FD 36486, this proceeding has been changed to a subdocket of that original proceeding.

² GNBC states that it originally acquired overhead trackage rights granted by BNSF's predecessor between Snyder Yard at milepost 664.00 and Quanah at milepost 723.30 allowing GNBC to interchange at Quanah with BNSF and Union Pacific Railroad Company. According to GNBC, these original trackage rights were supplemented in 2009 to allow GNBC to operate between Snyder, Okla., and Altus, with the right to perform limited local service at Long, Okla. See Grainbelt Corp.—Trackage Rts. Exemption—BNSF Ry. & Stillwater Cent. R.R., FD 35332 (STB served Dec. 17, 2009). The trackage rights were further amended in 2013 to allow GNBC to provide local grain service to a shuttle facility in Headrick, Okla., and again in 2014 to allow GNBC to provide local service to a grain shuttle facility in Eldorado, Okla. See Grainbelt Corp.—Trackage Rts. Exemption—BNSF Ry., FD 35719 (STB served Mar. 15, 2013); Grainbelt Corp.—Trackage Rts. Exemption—BNSF Ry., FD 35831 (STB served June 12, 2014). Finally, in 2021, BNSF and GNBC amended the trackage rights again to include the PCCA Trackage Rights. See Grainbelt Corp.—Trackage Rts. Exemption—BNSF Ry., FD 36486 (STB served Mar. 12, 2021). Subsequently, in Docket No. FD 36486 (Sub-No. 1), the Board granted GNBC a petition for partial revocation of the trackage rights exemption to allow them to expire on March 28, 2022. See Grainbelt Corp.—Trackage Rts. Exemption—BNSF Ry., FD 36486 (Sub-No. 1) (STB served Apr. 20, 2021). GNBC now seeks to extend the term of the PCCA Trackage Rights for an additional year, to March 28, 2023.

³ On February 23,2022, GNBC filed a letter to clarify that the trackage rights at issue in this proceeding are the PCCA Trackage Rights.

⁴ GNBC states that its verified notice is related to a petition for partial revocation filed in Docket No. FD 36580 (Sub-No. 1), in which GNBC seeks authority to allow the trackage rights at issue here to expire automatically twelve months after the effective date of this exemption. GNBC's petition for partial revocation will be addressed in a separate decision, redocketed in Docket No. FD 36486 (Sub-No. 3).

The transaction may be consummated on or after March 22, 2022, the effective date of the exemption.

As a condition to this exemption, any employees affected by the acquisition of the trackage rights will be protected by the conditions imposed in Norfolk & Western Railway—Trackage Rights—Burlington Northern, Inc., 354 I.C.C. 605 (1978), as modified in Mendocino Coast Railway—Lease & Operate—California Western Railroad, 360 I.C.C. 653 (1980).

If the notice contains false or misleading information, the exemption is void ab initio. Petitions to revoke the exemption under 49 U.S.C. 10502(d) may be filed at any time. The filing of a petition to revoke will not automatically stay the effectiveness of the exemption. Petitions for stay must be filed no later than March 15, 2022 (at least seven days before the exemption becomes effective).

All pleadings, referring to Docket No. FD 36486 (Sub-No. 2), should be filed with the Surface Transportation Board via e-filing on the Board's website. In addition, a copy of each pleading must be served on GNBC's representative, Eric M. Hocky, Clark Hill PLC, Two Commerce Square, 2001 Market Street, Suite 2620, Philadelphia, PA 19103.

According to GNBC, this action is categorically excluded from environmental review under 49 CFR 1105.6(c) and from historic preservation reporting requirements under 49 CFR 1105.8(b).

Board decisions and notices are available at www.stb.gov.

Decided: March 2, 2022.
By the Board, Scott M. Zimmerman, Acting Director, Office of Proceedings.
Aretha Laws-Byrum,
Clearance Clerk.

[FR Doc. 2022-04839 Filed 3-7-22; 8:45 am]

BILLING CODE 4915-01-P